DEPARTMENT OF TRANSPORTATION

Federal Aviation Administration

[Docket No. FAA-2025-0605]

Airport Improvement Program (AIP) Grant Assurances

AGENCY: Federal Aviation Administration (FAA), Department of Transportation.

ACTION: Notice of modification of Airport Improvement Program grant assurances; opportunity to comment.

SUMMARY: The FAA proposes updates to the AIP grant assurances to reflect recent legislative provisions in the FAA Reauthorization Act of 2024 as well as recently issued executive orders.

DATES: The FAA is implementing these modified grant assurances upon publication of this notice to expedite processing Fiscal Year 2025 grants. The FAA will accept public comments concerning these modified grant assurances for 14 days. Comments must be submitted on or before May 9, 2025. If necessary, in response to comments received, the FAA will consider appropriate revisions to these grant assurance modifications through publication of a subsequent notice in the Federal Register.

ADDRESSES: You may send comments [identified by Docket Number FAA-2025-0605] using any of the following methods:

• Government-Wide Rulemaking Website: Go to http://www.regulations.gov and follow the instructions for sending your comments electronically.

• Mail: Docket Operations, U.S. Department of Transportation, West Building, Ground Floor, Room W12-140, Routing Symbol M-30, 1200 New Jersey Avenue SE, Washington, DC 20590.

• Fax: 1-202-493-2251.

• Hand Delivery: To Docket Operations, Room W12-140 on the ground floor of the West Building, 1200 New Jersey Avenue SE, Washington, DC 20590, between 9 a.m. and 5 p.m., Monday through Friday, except Federal holidays.

FOR FURTHER INFORMATION CONTACT: David F. Cushing, Manager, Airports Financial Assistance Division, Federal Aviation Administration, 800 Independence Avenue SW, Washington, DC 20591; telephone: (202) 267-8827; fax: (202) 267-5302.

SUPPLEMENTARY INFORMATION: A sponsor (applicant) seeking financial assistance in the form of an AIP grant for airport planning, airport development, noise compatibility planning, or noise mitigation under 49 U.S.C., as amended, or an airport development grant under the Infrastructure Investment and Jobs Act (IIJA) (Pub. L. 117-58), must agree to comply with certain assurances. These grant assurances are incorporated in and become part of a sponsor's grant agreement for Federal financial assistance. As need dictates, the FAA modifies these assurances to reflect new Federal requirements. Notice of such modifications is published in the Federal Register, and an opportunity for public comment is provided. The assurances that apply to a sponsor depend on the type of sponsor.

There are four types of grant assurances:

• Airport Sponsor (applicable for airport development);

• Non-Airport Sponsors Undertaking Noise Compatibility Program Projects;

• Planning Agency Sponsors; and

• Aviation State Block Grant Program.

The current assurances were published on May 2, 2022, at 87 FR 25691. Prior to the FAA Reauthorization Act of 2024 (Pub. L. 118-63), the assurances were published on:

• February 3, 1988, at 53 FR 3104 and amended on September 6, 1988, at 53 FR 34361;

• August 29, 1989, at 54 FR 35748;

• June 10, 1994, at 59 FR 30076;

• January 4, 1995, at 60 FR 521;

• June 2, 1997, at 62 FR 29761;

• August 18, 1999, at 64 FR 45008;

• August 24, 2004, at 69 FR 52057 and amended on March 29, 2005, at 70 FR 15980;

• March 18, 2011, at 76 FR 15028;

• April 13, 2012, at 72 FR 22376;

• April 3, 2014, at 79 FR 18755;

• February 28, 2020, at 85 FR 12048; and

• May 2, 2022, at 84 FR 25691.

A complete list of the current grant assurances may be viewed at: https://www.faa.gov/airports/aip/grant_assurances.

Discussion of Grant Assurance Modifications

The FAA is making five changes to the grant assurances. These changes will be in effect for grants issued in fiscal year 2025 and beyond. The changes to the grant assurances are as follows:

Removal of Executive Orders

Executive Order 11246—Equal Employment Opportunity

Executive Order 12898—Environmental Justice

Executive Order 13985—Executive Order on Advancing Racial Equity and Support for Underserved Communities Through the Federal Government

Executive Order 13988—Preventing and Combating Discrimination on the Basis of Gender Identity or Sexual Orientation

Executive Order 14008—Tackling the Climate Crisis at Home and Abroad

Additions to Federal Legislation and List of Executive Orders

Infrastructure Investment and Jobs Act, Public Law 117-58, Title VIII

Executive Order 14149—Restoring Freedom of Speech and Ending Federal Censorship

Executive Order 14151—Ending Radical and Wasteful Government DEI Programs and Preferencing

Executive Order 14154—Unleashing American Energy

Executive Order 14168—Defending Women from Gender Ideology Extremism and Restoring Biological Truth to the Federal Government

Executive Order 14173—Ending Illegal Discrimination and Restoring Merit-Based Opportunity

Updates to Grant Assurances 1, General Federal Requirements

The FAA updated the introductory paragraph of Grant Assurance 1 to include the following language:

“Performance under this agreement shall be governed by and in compliance with the following requirements, as applicable, to the type of organization of the Sponsor and any applicable sub-recipients. The applicable provisions to this agreement include, but are not limited to, the following:”

Updates to Grant Assurances 5, Preserving Rights and Powers, and 29, Airport Layout Plan

The FAA updated Grant Assurances 5 and 29 to conform with Section 743 of the FAA Reauthorization Act of 2024 (Pub. L. 118-63).

Updates to Grant Assurance 30, Civil Rights

The FAA updated Grant Assurance 30 to conform with Executive Order 14151, Ending Radical and Wasteful Government DEI Programs and Preferencing.

Addition of Assurance 40, Access to Leaded Aviation Fuel

The FAA has added Grant Assurance 40 that requires an airport owner or operator that made any 100-octane low lead aviation gasoline (100LL) available at such airport, at any time during calendar year 2022, to not restrict or prohibit the sale of or self-fueling with 100-octane low lead aviation gasoline. This requirement remains until the earlier of December 31, 2030, or the date on which the airport or any retail fuel seller at the airport makes available an unleaded aviation gasoline that has been authorized for use by the Administrator of the Federal Aviation Administration as a replacement for 100-octane low lead aviation gasoline for use in nearly all piston-engine aircraft and engine models; and meets either an industry consensus standard or other standard that facilitates the safe use, production, and distribution of such unleaded aviation gasoline, as determined appropriate by the Administrator. Violations are subject to civil penalties in accordance with 49 U.S.C. 46301(a)(8).

Authority for Grant Assurance Modifications

This notice is published under the authority described in Subtitle VII, Part B, Chapter 471, Sections 47107 and 47122 of Title 49 United States Code (U.S.C.). In addition, the statutory authorities delegated to the Federal Aviation Administration are enumerated in Title 49 Code of Federal Regulations (CFR) 1.83 (“Delegations to the Federal Aviation Administration”).

Issued in Washington, DC, on April 22, 2025.
David F. Cushing,
Manager, Airports Financial Assistance Division.

[FR Doc. 2025-07224 Filed 4-24-25; 8:45 am]

BILLING CODE 4910-13-P